DEPARTMENT OF ENERGY

Federal Energy Regulatory Commission

[P-2101-084-CA]

Sacramento Municipal Utility District; Notice of Meeting

July 1, 2008.

a. Project: Upper American River Hydroelectric Project, El Dorado County, California.

b. Date and Time of Meeting: Thursday, July 17, 2008, 2 p.m. to 4 p.m. (PST).

c. Place: 2800 Cottage Way, Suite W-2605, Sacramento, California 95825. By copy of this notice, we are also inviting all interested parties to attend a teleconference from their location.

d. FERC Contact: Alan Mitchnick, (202) 502-6074, alan.mitchnick@ferc.gov.

e. Purpose of the Meeting: On September 25, 2007, the Commission requested formal consultation under the Endangered Species Act with the U.S. Fish and Wildlife Service (FWS) on relicensing of the project. On December 13, 2007, FWS indicated that the Commission must evaluate the effects on listed species of the recently signed water storage agreement between the Sacramento Municipal Utility District (SMUD) and El Dorado County et al. The Commission staff will be meeting with FWS and SMUD to discuss this issue.

f. All local, state, and federal agencies, and interested parties, are hereby invited to attend the meeting or listen in on the teleconference. The meeting location and phone number and passcode to the teleconference will be provided upon a request made by interested parties. Please make that request to Alan Mitchnick via e-mail at alan.mitchnick@ferc.gov NO LATER THAN close of business Tuesday, July 14, 2008.

Kimberly D. Bose,
Secretary.

[FR Doc. E8-15427 Filed 7-7-08; 8:45 am]

BILLING CODE 6717-01-P